DEPARTMENT OF TRANSPORTATION

Federal Aviation Administration

14 CFR Part 71

Proposed Modification of the Miami, FL, Class B Airspace; and the Fort Lauderdale, FL, Class C Airspace Areas; Public Meeting Postponement

AGENCY: Federal Aviation Administration (FAA), DOT

ACTION: Notice of meeting; postponement.

SUMMARY: This notice announces the postponement of a fact-finding informal airspace meeting regarding a plan to modify the Miami, FL, Class B Airspace, and the Fort Lauderdale, FL, Class C Airspace areas. The meeting was previously scheduled for February 27, 2019.

FOR FURTHER INFORMATION CONTACT: Paul Gallant, Airspace Policy Group, Office of Airspace Services, Federal Aviation Administration, 800 Independence Avenue SW, Washington, DC 20591; telephone: (202) 267-8783.

SUPPLEMENTARY INFORMATION: The FAA published a notice of meeting in the Federal Register (83 FR 66646; December 27, 2018) holding an informal airspace meeting to discuss plans for modifying the Miami, FL, Class B Airspace, and the Fort Lauderdale, FL, Class C Airspace areas. The meeting was to be held on Wednesday, February 27, 2019, at Broward College, Pembroke Pines, FL. In light of the recent federal government shutdown, the FAA has decided to postpone the meeting to provide additional time for planning and preparation.

Once arrangements for a new meeting are finalized, the details will be announced in the Federal Register.

Authority: 49 U.S.C. 106(f), 106(g); 40103, 40113, 40120; E.O.10854, 24 FR 9565, 3 CFR, 1959-1963 Comp., p. 389.

Issued in Washington DC, on February 6, 2019.
Rodger A. Dean, Jr.,
Manager, Airspace Policy Group.

[FR Doc. 2019-02058 Filed 2-11-19; 8:45 am]

BILLING CODE 4910-13-P